ENVIRONMENTAL PROTECTION AGENCY

[FRL-6986-7]

SES Performance Review Board; Membership

AGENCY: Environmental Protection Agency (EPA).

ACTION: Notice.

SUMMARY: Notice is hereby given of the membership of the EPA Performance Review Board.

DATES: May 29, 2001.

FOR FURTHER INFORMATION CONTACT: Karen Stinson, Executive Resources and Special Programs, 3650, Office of Human Resources and Organizational Services, Office of Administration and Resources Management, Environmental Protection Agency, 1200 Pennsylvania Avenue, NW., Washington, DC 20460 (202) 260-1373.

SUPPLEMENTARY INFORMATION: Section 4314 (c)(1) through (5) of Title 5, U.S.C., requires each agency to establish in accordance with regulations prescribed by the Office of Personnel Management, one or more SES performance review boards. This board shall review and evaluate the initial appraisal of a senior executive's performance by the supervisor, along with any recommendations to the appointment authority relative to the performance of the senior executive.

Members of the EPA Performance Review Board are:

Russell L. Wright (Chair), Director, Science and Ecosystem Support Division, Region 4

Jeanette L. Brown, Director, Office of Small and Disadvantaged Business Utilization, Office of the Administrator

Lynda F. Carroll, Assistant Regional Administrator, Region 6

Judy S. Davis, Acting Director, Office of Acquisition Management, Office of Administration and Resources Management

Emmett D. Dashielle, Deputy Assistant IG for Investigations, Office of the Inspector General

Joseph L. Dillon, Acting Comptroller, Office of the Comptroller

Joan Fidler, Director, Office of Management Operations, Office of International Activities

Lisa K. Friedman, Associate General Counsel (Solid Waste & Emergency Response), Office of General Counsel

Ann E. Goode (Ex-Officio), Director, Office of Civil Rights, Office of the Administrator

Geoffrey H. Grubbs, Director, Office of Science and Technology, Office of Water

Walter W. Kovalick, Jr., Director, Technology Innovation Office, Office of Solid Waste and Emergency Response

Henry L. Longest II, Acting Assistant Administrator, Office of Research and Development

Brian J. McLean, Director, Clean Air Markets Division, Office of Air and Radiation

Linda M. Murphy, Director, Office of Ecosystem Protection, Region 1

Eric V. Schaeffer, Director, Office of Regulatory Enforcement, Office of Enforcement and Compliance Assurance

Keith A. Takata, Director, Superfund Division, Region 9

Linda A. Travers, Deputy Director, Office of Technology Operations and Planning, Office of Environmental Information

Marylouise M. Uhlig, Director, Office of Program Management Operations, Office of Prevention, Pesticides and Toxic Substances

Vanessa T. Vu, Associate Director for Health (NCEA), Office of Research and Development

Daiva Balkus (Executive Secretary) Director, Office of Human Resources and Organizational Services, Office of Administration and Resources Management

Members of the Inspector General Subcommittee to the EPA Performance Review Board are:

James E. Henderson, Assistant Inspector General for Investigations, General Services Administration

Richard L. Skinner, Deputy Inspector General, Federal Emergency Management Agency

Joseph Willever, Deputy Inspector General, Office of Personnel Management

Dated: May 18, 2001.
David J. O'Connor,
Acting Assistant Administrator, Office of Administration and Resources Management.

[FR Doc. 01-13418 Filed 5-25-01; 8:45 am]

BILLING CODE 6560-50-U